NUCLEAR REGULATORY COMMISSION

[Docket Nos. 50-219 and 72-15; NRC-2018-0237]

Oyster Creek Nuclear Generating Station; Consideration of Approval of Transfer of License and Conforming Amendment

AGENCY: Nuclear Regulatory Commission.

ACTION: Application for direct transfer of license; reopening of comment period.

SUMMARY: On October 19, 2018, the U.S. Nuclear Regulatory Commission (NRC) solicited comments on “Oyster Creek Nuclear Generating Station; Consideration of Approval of Transfer of License and Conforming Amendment.” The public comment period closed on November 19, 2018. The NRC has decided to reopen the public comment period to allow more time for members of the public to develop and submit comments.

DATES: The comment period for the document published on October 19, 2018 (83 FR 53119), has been reopened. Comments must be filed by January 9, 2019. Comments received after this date will be considered, if it is practical to do so, but the Commission is able to ensure consideration only for comments received on or before this date.

ADDRESSES: You may submit comments by any of the following methods:

• Federal Rulemaking Website: Go to http://www.regulations.gov and search for Docket ID NRC-2018-0237. Address questions about Docket IDs in Regulations.gov to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: John G. Lamb, Office of Nuclear Reactor Regulation, U.S. Nuclear Regulatory Commission, Washington, DC 20555-0001; telephone: 301-415-3100, email: John.Lamb@nrc.gov.

SUPPLEMENTARY INFORMATION:

I. Obtaining Information and Submitting Comments

A. Obtaining Information

Please refer to Docket ID NRC-2018-0237. You may obtain publicly-available information related to this action by any of the following methods:

• Federal Rulemaking Website: Go to http://www.regulations.gov and search for Docket ID NRC-2018-0237.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The Application for Order Approving Direct Transfer of Renewed Facility Operating License and General License and Proposed Conforming License Amendment for Oyster Creek is available in ADAMS under Accession No. ML18243A489.

• NRC's PDR: You may examine and purchase copies of public documents at the NRC's PDR, Room O1-F21, One White Flint North, 11555 Rockville Pike, Rockville, Maryland 20852.

B. Submitting Comments

Please include Docket ID NRC-2018-0237 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On October 19, 2018, the NRC solicited comments on “Oyster Creek Nuclear Generating Station; Consideration of Approval of Transfer of License and Conforming Amendment.” The purpose of the original Federal Register notice (83 FR 53119; October 19, 2018) was to provide an opportunity to comment, request a hearing, and petition for leave to intervene. The public comment period closed on November 19, 2018. The NRC has decided to reopen the public comment period on this document until January 9, 2019, to allow more time for members of the public to develop and submit comments. The period to request a hearing and petition for leave to intervene is not being reopened.

Dated at Rockville, Maryland, this 4th day of December 2018.
For the Nuclear Regulatory Commission.
John G. Lamb,
Senior Project Manager, Special Projects and Process Branch, Division of Operating Reactor Licensing, Office of Nuclear Reactor Regulation.

[FR Doc. 2018-26615 Filed 12-7-18; 8:45 am]

BILLING CODE 7590-01-P